DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending September 30, 2014. For purposes of this listing, long-term residents, as defined in section 877(e)(2), are treated as if they were citizens of the United States who lost citizenship.

Last name | First name | Middle name/initials
ABDALLA | OSAMA | ELSIR
ABU-SHARR | BERYL | STONEQUIST
ADELSON | RYAN | SHELBY
AEBERSOLD | DONNA | MARIE
AEPPLI | LISABETH |
AGARWALLA | ANANG |
AINSCOUGH | ROBERT | DEAN
ALLAS | ERIK | PETER
ALLEMAND | EMMANUELLE |
ALLENBACH | DAVID | EMMANUEL
AL-SULAIMAN | BANDAR | GHASSAN
AL-SULAIMAN | SAUD | GHASSAN
AMAN | ZUBIA |
AMBANI | JAI | ANSHUL ANIL
ANDRE | CORALIE |
ANDREWS | DAVID | BRIAN COLLINGWOOD
ANG | LE | WEI
ANG | SEAN | YOUNG
ANGEHRN | GEORGE | JOSEPH
ANGEHRN | JEFF | RICHARD
ANLIKER | MARK | DAVID
ARBENZ | PETER |
ARCHER | KIM | MARIE O'SANNON
ARKHIPOVA | SVETLANA | VALERYEVNA
AROUNA | OMAR |
ASHCROFT | JONATHAN | WILLIAM
ASHENHURST | AMBER | R.
ASLAKSEN | ERIK | CHRISTIAN
ASSAL | MICHAEL | EDWARD
AVAKIAN | CORRINE |
AVNI | HAGUY |
BAARDSEN | KENNETH | ARTHUR
BADER-SCHNEBLI | ALESSANDRA | MARIA
BAINVILLE | BERNADETTE | MOREAU DE BONREPOSE
BALDIN | DIANE | FRANCOISE
BANKS | IMOGEN | HELEN
BARGEZI | JANET | RUTH
BARLOSKY | MARTIN | JOHN
BARLOSKY | PATRICIA | ANN
BARRETT | JOANNA | PENELOPE
BATERJI | ABDUL | JALIL
BATTERJEE | RUDWAN |
BAUER | JACQUES | ALAIN
BEALLE | REIJA |
BEATTY | MARY | KATHERINE
BEAUDOIN | NICOLE |
BECK | VALERIE |
BELL | FRANKLIN | DAVID
BENZ | MONIQUE | IRENE
BERGMAN | ESTHER | H
BERNER | NICOLAS | PHILIPPE
BERRY JR | BRIAN | PATRICK
BERTOLINI | ANDREA |
BETSCHART | ANDREAS | GUSTAV
BETTIS | DAVID | MICHAEL
BILAT | ANNIK |
BILAT | KRISTEL |
BIRCHALL | CAROLYN | RUTH
BIRSE | NANCY | ANN
BLACK | GRANT |
BLASBERG | ELIEZER |
BLOMFIELD-SMITH | EDWARD | ABERCROMBY
BOCCARD | CHRISTOPHER | CLAUDE
BODDEN | ROBERTA | LEE
BOLAND | BENOIOT | J
BOLTER | ELIZABETH | JANE
BOLTON | VANESSA | GERMAINE
BONHAM | SOPHIE | JEAN ISLA
BONHAM | ZOE | VIRGINIA
BONNARD | JACQUELINE | LOUISE
BORRALLO | ADRIAN | MANUEL
BOURGEOIS | MARIE-EVE | JEANNE
BOURGEOIS-DEMAUREX | ROSEMARIE | MURIEL
BOYER | JULIE |
BRAILLARD | CAROLYNE | VANESSE PIERRE
BRANDT | RALPH |
BREWER | MEGAN | CHRISTINA
BRICK | MATTHEW | ALEXANDER
BROCK | KATHRYN | ELIZABETH
BROOK | JOHN | ROBERT
BROWN | BENJAMIN | HADDON DUNSTER
BROWN | KAREN | ELIZABETH
BROWNSTONE | GILBERT |
BRUCE | ERIN | LINNAE
BRUGGER | ALICE | VIKTORINA
BRUNNER | DENNIS | ALEXANDER
BRUNNER | PHILIP | WALTER
BUCHI | LIONEL | SIMOM ALVIN
BUHRER | ELIAS | DANIEL
BUOL | RONALD | NEIL
BURKHART | GARY |
BURNABY | HELEN | ANNE
BUSSY-DEMAUREX | AVELINE | MONIQUE
CALENTI | CHRISTOPHER | H
CAMMACK | ELIZABETH |
CAMPBELL | JOHN | MILTON
CAMPBELL | JUDITH | ANNE
CAPLAN | MIRIAM | RUTH
CAPRI | KIM | BARBARA
CARNAHAN | JESSICA | ELIZABETH
CARR | PAMELA | SUSAN
CASALI | NATHALIE | FIAMMETTA
CATTIER | ELISABETH |
CEFIS | ADRIANA | FEDERICA
CHADDAH | PRASHANT |
CHAFFEY | TESSA |
CHAN | CASEY | KWAN-HO
CHAN | DOUGLAS | HILL MING
CHANDARIA | DARSHNA | NAVIN
CHANG | JAMES | SHI-SHEN
CHAR | JEFFREY | TERENCE ZENG HAU
CHAREST | DANIEL | ALPHONSE
CHEANG | JAMES | JIA-HENG
CHEN | ALICE | JING
CHEN | HUMPHREY | DI
CHEN | JAMIE | MARDA
CHENG | EMILY | I-MAY
CHEUNG | CHRISTOPHER | LAPMAN
CHEUNG | FAI |
CHEUNG | LIZA |
CHIARELLI | SUSAN | CAROL
CHISHOLM | BARBARA | JEAN
CHISHOLM | MARGARET | DOWNER
CHISHOLM | SANDRA | MARY
CHIU | CHRISTIE |
CHIU | NYMPH | MICHEL
CHOW | TING | PONG DANIEL
CHRISTENSEN | CAROLE |
CHUANG | CHUNG-HWA | LEE
CINELLI | GIOCONDA | HENRIQUEZ
CIRJE | VIOREL |
CLARK | KAREN | LOUISE
CLARKE | MARGARET |
CLARKE | STEVEN | D
COENRAANDS | BART | JAN
COLBATH | JON | EMERSON
COLBENSON | DENNIS | ANTHONY
COLELLI | FRANCESCO |
COLEMAN | MALINDA | TIGAY
COLES | JENNIFER | SARAH
COLLINS | VICTORIA | L
CONIGLIO | NONA |
CONNEILLY | TIFFANY | MILLEN
CONWAY | JULIA | ANN
COOKE | LINDSAY |
COPE | BENJAMIN | LEE
COPE | LEONARD | LEE
CORCIONE | NICOLAS | IVAN
CORPUS | GLENN | RAMOS
COTTIER-HOFSTETTER | ANGELA | NELLY
COURVOISIER | KATHERINE | ANNE
COWDEROY | SARAH | LOUISA MADELEINE
COYLE | JASON |
CRAIU | TALIA |
CRUZ | SARAH | WENCESLA
CUDLIPP III | CHANDLER |
CUESTA | DIEGO | S.
CUGNO | JEANETTE | PAULINE
CUTLER | DAPHNE | MICHELE
DA CUNHA | DAVID | DLUARTE
DAHLAN | ROMAIN | GILBERT FARID
DAMMERS | CLIFFORD | ROBERT
DAMMERS | ROBIN | ANDERSON
DANIELSEN | LINDA | TONE
DARMS | CORINA | PATRICIA
DAROM | GIL |
DAUM | LINDA |
DAVIE | CATHERINE | LOUISE FERGUSON
DAY | SHEILA | RAYE
DAZZI | HEIDI | SUE
DE BACKER | ALBERT | HECTOR
DE GRACIA | REDENTOR | A
DE JESZENICE | ANNE | ELIZABETH JANKOVICH
DE KARLI | MAZIMILIAN | VALERY FONSECA
DE LA GUARDIA ARIAS | VICTOR | JOSE
DE LIMBURG STIRUM | CHARLES | PHILIPPE
DE LOUREIRO | MIGUEL | TIERSONNIER
DE MESA | RAFAEL | FERNANDEZ
DE WAELE | SABRINA | VALERIE
DE WASSEIGE | HUBERT | ROBERT P.
DE WILDE | MONICA | BINDSCHEDLER
DEALY | SHELDON | RAY
DEAN | BRENDAN | ZHI MIN
DEBS | MAYA |
DEBS | TALAL |
DELUNAS | LEONARD | JAMES
DERUYTTER | DAVE | WIM
DICK | RUTH |
DIGUISTO | RAPHAEL | JACQUES MARIE
DOSSIN | PASCAL | HUBERT
DOWSETT | TREVOR | NEIL
DOZIER | BARTON | EVERETT
DOZIER | JEFFREY | SEAN MICHAEL
DRAZ | ISSAM | HIKMAT
DRAZIN | AARON |
DREGER | SUSAN | MICHELLE
DRESCHER | PHILLIP | ROBERT
DREW | LAWRENCE | LLOYD
DRISSI | HEDI |
DUGGAN | MICHAEL | WILLIAM
DUNN GOEKJIAN | MICHAEL | CHRISTOPHER
DUPONT | COLETTE | THERESE P.S.M.G.
DVORINA | TETYANA |
EASTMAN | JUDAH | TONY
EDWARDS | DERRICK | J
EICHHORN | NANCY | RUTH
ELHAG | RANDA | HASHIM ABASAEED
ELINSON | VICTORIA | GILLAN
ELLIS | DUNCAN | GAY
ELSTAD | LINDA | MARIE DICKEY
ELWOOD | MARY | K
EMLEY | DAVID | WILLIAM
ENGH | ALEXANDER | GUNNAR
ESSA SULTAN | MUHANAD | HISHAM
FABREGA | DANIELE | EDUARDO
FAIRBAIRN | HEATHER | ELIZABETH
FAN | HIN | LUNG
FARHA | AMIR | MAJED
FAUCOUNAU | CAROLINE | CLAUDINE
FAULKNER | WILLIAM | TALBOT
FEARNLEY | PATRICIA | ANN
FEASEL | RICHARD | ALLEN
FEHLMANN | MARK | GREGOR
FEISTMANN | FREDERICK | ALAN
FERBER | GIDEON |
FERDINAND | CLAUDIA |
FFRENCH | HENRY |
FIELD | JOSEPH | PATRICK
FILICE | DANTE | GIOVANNI
FISCHER | COLETTE | MICHELE
FISHER | ETHEL | LUCY
FISHER III | FREDERICK | GEORGE
FLETCHER | ANTHONY | B
FLUCKIGER | NATHALIE | MARY
FLURY | BEATRICE | MARIA
FOLTZ | RICHARD | C.
FONT | CONCEPCION |
FOUR | MARION |
FRANKLIN | BARRY | ANTHONY WILLIAM
FRANTZ | ROBERT | H.
FRIEDLANDER | SCOTT | LAWRENCE
FRIEDMANN | LEA |
FROELICHER | NICOLAS | FRANCIS
FURLAN | NEVA |
GAGNER | SHANE | MICHAEL
GAMA | KHALID | ABID
GARSKI | NICOLAS |
GAUDET | PETER | JOSEPH JUDE
GEBHARDT-MANZONI | MARTINA |
GEHLHAAR-MATOSSIAN | VAHAKN | WOLFRAM
GEHRI | BARBARA | JOAN CONNELL
GENN | THOMAS | EDGAR
GERMANN | KRISTINE | LAVERNE
GERRY | MONTANA | ELIZABETH
GERRY | RHIANNA | JULIA
GERTNER | MARGANIT |
GFELLER | WALTER | ALAN
GLASER | IRIS | AVIVA
GLESTI | DANIEL | ANDREW
GOH | EMMANUEL | YEIN
GOLDBERG | ELIZABETH | LOGAN
GONZALEZ | MANUEL | ALBERTO
GONZALEZ REVILLA | MARTA | CRISTINA
GOROSTIDI-GARROW | RACHEL | ELAINE
GOTSHAL | ANJALIKA | CHEN
GOULSTON | ADAM | NACHUM
GOUNARIS | ROSA |
GOYA | NICHOLAS | ADAM
GRANDCHAMP | EVELYNE | RUTH
GRANT PETERKIN | HENRIETTA | MARGARET ANNE
GREEN | GEOFFREY | WILLIAM
GREGOR | MORIAH | JO MAC
GREMAUD | LAURA |
GRESSHOFF | ROSALYN | MARIE
GRETER | DOROTHEA | ISABELLE
GRIESBACH | CHRIS | B.
GRIFFITHS | MYRIAM | RENEE
GROSSARDI | GIAN | FRANCO
GROSSARDI | GIAN | FRANCO
GRUENIG | MAYA | CORNELIA
GUALLINI | ALAIN | GILBEERT
GUERREIRO | SANDRA | PAULINO
GUPTA | VIVAKE |
HACKETT | MARGARET | BERNADETTE
HAEGELSTEEN | NICOLAS |
HAEUSER | PETER | JAMES
HAGAN | GREGORY | MARK
HAGIN | EVELINE | HEIDI
HAHN | WILLIAM | WOOJAE
HALL | MAUREEN | R.
HAMLESCHER | EWALD |
HAN | JIAN-CHIU |
HANDELSMAN | STEPHEN | JEREMY
HANDLER | PHILIPP | HANS PETER
HANNA | HANNA | BOULOS
HAQ | TAHSIN | UL
HARLEY | MATTHEW | ALAN LEE
HARRIS | JOHN | LESLIE
HARRIS | MARSHA | RUTH
HASSETT | NOEL | DENIS
HASSIG | YVONNE |
HATFIELD | PETER | TODD
HAUSSMANN | MATTHEW | PHILIP
HAZENBERG | AUDIE | ELEANOR
HEFERMEHL | LUKAS | JOHN
HEFERMEHL | PATRICIA | ELLEN
HEFERMEHL | VALERIE | JANE
HEGDAHL | RONALD | SIGFRED
HENDEL | GEORGES |
HENDRICKS | KENNETH | CHARLES
HERBORT | CARL | KENSAKU
HERLIHY | JAMES | PATRICK THURLOW
HERRMANN | THOMAS |
HERVE | ADRIENNE |
HETRAKUP | KAHN |
HETZ | SAMUEL | PETER
HILL | CHARLES | BRIAN
HILTON | JAMES | WALTER
HIRANO | AKIKO |
HOCKIN | ELLEN | K
HOEKSTRA | JOHN | THAYER
HOENING | MICHAEL | ARTHUR
HOFMANN | ANDREAS | FELIX
HOLD | WILLIAM | ADAMS
HOLENWEG | CHRISTINE |
HOLTEN | OLIVIA | CHRISTINE STOLT-NIELSEN
HONG | BENJAMIN | JUN-YANG
HONG | PHU | SANH
HOPKINS | WANDA | ANITA
HORNICK | JAN |
HOUGNON | TAMARA | MARIE
HOWARD | ERIKA | TERESA
HOWARD | TODD |
HOYNICKI | JOHN | LEON
HSU | JEFFREY |
HSU | JESSICA |
HUANG | BERNICE |
HUET | MARIJKE | KAREN
HUI | MAX | MO-SZE
HUNT | CHARLES | LEONARD
HUYGHE | NICOLAS | L
IIJIMA | SHINICHI |
ILLOVSKY | PETER |
IMOBERDORF-ETTER | BRIGITTA | VERENA
INNES | JONATHON | WINTHROP
ITSCHNER | CAROL |
JACKSON | ELIZABETH | ANN
JACKSON | MICHAEL |
JACOBS | GEORGE | MARTIN
JAGGI | STEPHAN | FRED
JAKOB | LISA | ANN
JANETT | JULIANNE |
JANETT | REBEKKA | MARIA
JELINSKI | DAVID | ROMAN
JENNERICH | RICHARD |
JENNI | AMANDA | BLAIRE
JENNINGS | GENRY | JOHN ARMBURG
JENNY | JASMINE | MANUELA
JESU | TERRY |
JOHNSON | BENJAMIN | OLIVIER
JOHNSON | SCOTT | DOUGLAS
JONES | AVERY | MAE
JONES | MICHAEL | PAUL
JULIHN | COREY | BRADFORD
JUSTAD | MICHAEL | OLAV
KADJAR-OLESEN | NIKOLEJ | GUY
KAEGI | ELISE | REEN
KALANTAR | LOUISE | FLUHR
KAM | CHEUK | BUN
KARAGEORGELIS | EVANGELOS | DEMITRIOS
KARSIOTIS | THOMAS | ANDREAS
KAUFMAN | HANNAH | ESTHER
KELEHER | JOSEPH | PATRICK
KELLER | CHRISTOPH | JOHANNES
KELLER | DEBORA | ELISABETH
KELLER | MARGARET | L
KENNER | ELLY |
KEPKAY | MARK | DAVID
KERN | CAROLINE | DEBRA
KERR | KATHERINE | LEE
KEUSCH | JEANNETTE |
KING | SARAH | THERESA
KIRBY | BALSI | LOVELL MARIE
KITAGAWA | JOHNNY | HIROMU
KNOPFLER | BENJAMIN |
KNOPFLER | JOSEPH |
KOCOUREK | PAUL | FRANCIS
KOENIG | VERENA | BARBARA
KOO | JASON | KUNG YI
KORDA | ROSEMARIE | KATHERINE
KOZUSKANICH | CHRISTOPHER | M
KRAMER | PETER | ERNEST
KROEGER | CAROL | ANN
KRONENBERG | SUSAN | MARIE
KUNZI | ANDREAS | MARTIN
KURMANN | SIMONE | BARBARA
KWAN | PAUL | YUENCHIU
LA FORT | PATRICK | DOMINIQUE DONALD
LACHNER | RONALD |
LACKMANN | RICHARD | ANTON
LAM | HOWARD |
LAM | WALTER | SI-CHUN
LAN | WILLY | YU-WEI
LANCASTER | DANIEL | RAY
LANTERNIER | ALEXIS | PHILIPPE
LAPAIRE-MAYER | OLAF | CARL
LAPERCHES | YVES | GEORGES
LAPOINTE | CONSTANCE | CAMELIA
LARIVEE | NATASHA | JANE
LARY | PETER | H.
LAUER | TAD | READ
LAUTERBURG | ALEXANDER | BERNHARD
LAVELANET | CATHERINE | DANIELA
LAVELANET | FRANCOIS | RICHARD GABART
LAYTON | JENNIFER | CHRISTINA
LECOMTE | MARIE | ALICE
LEE | CAROLYN | KATHLEEN
LEE | DONALD | CHIEN-CHUN
LEFEBVRE | MAUREEN | ANNE CASEY
LEGAULT | MARJOLAINE | MARIE LOUISE
LEGAULT GRENIER | ROSE | IRENE
LEONG | PJ | WEN
LEONG | RICHARD | RAYMOND GAW
LETO | MARGARET | ANN
LEVNER | ETHAN | STRAUS
LEWIS | LUCY | VICTORIA
LEWIS | SIMONE | LARISSA
LIAO | LEWIS | YUAN-HONG
LIDDELL | MARY | FRANCES
LIGHTFOOT | MARK | HENRY
LILLEY | KAITLIN | LEE
LIM | JESSICA | SHAO-YEUNG
LIND | VICTOR | NOLTING
LINGSOM | SUSAN | PRESCOTT
LINKER | DAVID | SEAN
LIU | ERIC | KAR HANG
LIU | MICHELLE |
LLOYD | ANGELA | KAY
LO | IVAN | DING-RONG
LOEB | JACK | F
LOEPFE | KEVIN | NICOLAS
LOERLI-CANNON | EDEN | STORM
LONG | MICHELE | RENEE
LOVENBACH | JACQUES | GEORGES
LUCAS | ANNE | STEVENSON
LUNG | MICHAEL | KOON-MING
LUNGER | BARBARA | ANN
LUSIARDO | MARIA | MAGDALENA
LUTZ | LENARD | PHILLIP
MA | ALEXANDER |
MA | SEAN |
MAALOUF | NICHOLAS | RAYMOND
MAC INTOSH | NANCY | ELIZABETH
MACAR | PATRICE |
MACLEAN (NEE: TAYLOR) | LINDA | JANE
MACY | VIVIENNE | WHITAKER
MALTZ | MARGARET | ETTA MABEL
MANDRALIS | PANAYIOTA | MILTIADES ALEXI
MANFREDI | FREDERICK | RICHARD
MARAZITA III | JOHN |
MARC | CLARA | JEANNE
MARCHEN (NEE: JARVIS) | PATRICIA | DOREEN
MARMUGI | CLELIA |
MARQUARD | MARY | LINDA
MARTENS | DAVID | KARL
MARTIAL | FREDERIQUE | CHARLOTTE
MARTIN | ARMAND | GUY
MARTIN | ELFRIEDA | VICTORIA
MARTINET | JASON | ROBERT
MARTINEZ | MARY | P
MARX | PATRICIA | JULIE ANNE
MATHIAS | CATHERINE | REBECCA
MAUPIN | ANIKA | SONYA
MAXWELL | SHERRI |
MAZA | CONCEPCION | FERNANDEZ
MAZANY | ROBIN | LEIGH
MAZREKU | JACK | MATTHEW
MAZREKU | VALERIA |
MC KETIAK | JARED | MICHAEL
MC KETIAK | JOAN | ANNE
MCGILLICUDDY | REBECCA | JOY
MEARS | LUCILE | LOUISE
MEILE | STEPHANIE | NANCY
MEISTER-CLEMONS | CYNTHIA | SUZANNE
MENCHACA | KYLE | STEVEN
MENETREY | CHRISTINE | ELISE
MENETREY | JOELLE | MARIANNE
MENETREY | SOPHIE |
MERRELL | JAMES | MATHIS
MERSON | JACOB |
MERSON | MIRIAM | ANNE
METTLER | MARTINE | HOLZER
MEYHACK | OLIVER |
MILLER | NATHANIEL | HIROSHI
MILLIKEN | MARK | MALLACHY
MIOZZARI | CLAUDIO | RETO
MITCHELL | ALI | SCOTT XAVIER
MOINET | PHILIPPE | ANDRE
MOK | JOSEPHINE | YEUN YUNG
MONTEIRO | THOMAS | RIBEIRO
MOON | KELLY | LOUISE
MOORE | RANDALL | JAEGER
MORETTO | CYNTHIA | MARY
MORETTO | GEORGE | C.
MORGAN | CHARDE | ANNETTE
MORRISON | ANNETTE | PAYNE
MOSSERI-MARLIO | WILLIAM | EDUARD
MUELLER SENN | SUSANNE | HELENE
MUHLEMANN | ANGELE | MUHLEMANN
MULLER | CYNTHIA | LESLIE
MURPHY | MICHAEL | ANDREW
MUSTER | ILEANA | BELINDA
MUZAYYIN | NASRAT | LUCAS
NALOS | DUNCAN | JEFFREY
NEIDHARDT | CHISTOPHER | SIMON
NEMETH | JENNIFER | MARIE
NEUKOMM | ANITA | GRACE
NEVILLE-JONES | CLARE | ELIZABETH
NG | ZACHARY | CHER PING
NICOLET | CHANTAL | BEATRICE
NICOLLS | MARTINA | GIOIA
NIEM | TONY | PING FONG
NOLLAND | REBECCA | MARIE
NOVAK | BRITTANY | KRISTINA
NOVAK | KRISTINA | MARIE
NOYER | THOMAS | DAVID
NYEU | FONMING |
OBRAND | DANIEL | IAN
OBRECHT | CORINNE | CLAUDIA
OELMAN | ETHAN | ROBERT
OLDFIELD | DAVID | ARTHUR
OLDFIELD | SUSAN | AMELIA
OLESEN | NICHOLAS | A.
OLTRAMONTI | GIULIA | CLOTILDE PRELZ
OMAR | WAIS |
OON | ALEXANDER | XUE PENG IAN
OPELZ | HANNES | DAVID
OPRAVIL-DOMANSKI | SANDRA | JOEL
ORBAN | DAMIEN | ATTILA
O'SULLIVAN | KATHRYN | WINIFRED
OVERNEY | SARAH | MARIA
OXENHAM | GERTA | LOUISE
OYHARCABAL | FRANCOIS | GABRIEL
PAEK | KEVIN | KIHWA
PALLONE | JOHN | DOMINICK
PALMER | RICHARD | FARRINGTON
PAREDES | ALBERTO | JOSE
PAREDES | ALFONSO |
PARTRIDGE | ELLIS | W
PASTORE | SPENCER | RAY
PATT | RICHARD | FIDEL
PATTERSON | SCOTT | BRADFORD
PAUL | ERIK | CHARLES
PAVLOS | RIZOS |
PENNINGTON | RONALD | KEITH
PERLILNO | SUMITRA |
PERRUCHOUD | PHILIPPE |
PETER | JAMES | THOMAS
PETER | ROBIN | EDWARD
PETERS | COTTON | WALKER
PETERSEN | PATRICK |
PETERSON | WAYNE | KARL
PFISTER | BRYAN | GUSTAV
PICKARD | JUDITH | CLAIRE
PIRKLE | KATHERINE | DEAN
PIZURKI | LARA | JOHANNA
PLANTE | PIERRE |
POFFERI | ALDA | MARIA
POFFERI | GEORGIANNA | NINA
POINTER | ROHAN | MAYNARD
POPPER | EVELYN | RACHEL
PRADERVAND | MARC | ANDRE
PRETRE | MATHIEU |
PRICE | HANIA | MARGRET CURJEL
PSARROS | KYRIAKOULA |
QUELQUEJEU | MARIO | ENRIQUE
QUIRK | THOMAS | MICHAEL
RANGARAJAN | RAGHAVAN |
RASHED | AHMED | GAMAL
REDDY | KRISHNA | GUNUPATI VENKATA
REEVES | AILEEN | CHI YAU
REHSTEINER | ULRICH | PETER
REITER | BORIS | DANIEL
REY | BRUNO | ANDRE
RHODES | CARALEE | A
RICHARD | MARGARET |
RIEDER | YVONNE |
RIEGLER | TINA | MARIA
RIVERA | PHILLIP | JOHN
ROBERTSON | DUNCAN | MICHAEL JOHNES
ROBERTSON | SHIELA | ELIZABETH
ROBUSTELLI | MARGOT | IRENE
RODGERS | EMILY | KATE
RODIN-MEDINA | EVELIN | TARARA
RODRIGUEZ | JUDITH | EMMANUELLE
ROED | FRANCISCO |
ROLLINS | LINDA | M.
ROMERO | ROXANE | MARIE
ROSS | JOSE | AKA JOSE REYA
ROSS | LORETTA | AKA ANA REYA
ROUFOSSE | FLORANCE | EMMANUELLE
ROXAS | ADRIANNA | DOMINIQUE T.
RUSTHOVEN | JAMES | JACOB
RUSTHOVEN | THEA | D.
SALA | JOSE | ALPHONSO
SANTONE, JR | MICHAEL | ANGELO
SARAN | YOGESH |
SARTORIUS | ALFONSO |
SAUCEDA JR | FRANCISCO |
SCALES | MICHAEL | JON
SCHALLER | AMELIA |
SCHEIDEGGER | DANIEL | PETER
SCHEIDEGGER | SUSANNE | DANIELA
SCHEIFELE | DANIEL | RICHARD
SCHEURING | MELANIE |
SCHEURING-DREIER | CARMEN | BEATRICE
SCHICKLER | THOMAS | ADAMS
SCHIESS | DANIEL | PATRICK
SCHILLER | DAWN |
SCHILLING | LESLIE | TANG
SCHIRATO | CORINNE | MARIA
SCHLENKER | PHILLIPPE |
SCHMID | SOPHIE | ELISABETH
SCHMIDHAUSER | PETER | ROGER
SCHNEIDER | KRISTINA |
SCHNEIDER | SEBASTIAN |
SCHNORF | CHRISTOPHER | DAVID
SCHNORF | GWENDOLYN | VERA
SCHOCH | JENNIFER | LAURA
SCHOENENBERGER | ANGELA | JACQUELINE
SCHWEPPE | LAURA | MICHELE
SEARS | LYSSANDRA | KATRINA
SEWARD | RONALD | WILLIAM
SHAFFER | CYNTHIA | S
SHAH | PANKAJ | DHITAJLAL
SHAH | PRITI | RAJEN
SHANI | AVISH | NARESH
SHARP | GREGORY | STEVEN
SHAW | REBECCA | JO
SHEDD | STEFANIE | NICOLE
SHELL | ELISABETH | ROZALETTE
SHERWIN | RUEBEN | J
SHERWIN | YONATAN | YEHUDA
SHIGIHARA | DAIKI |
SHLONSKY | UR |
SHOFF | KEVIN | KRISTOPHER
SIEBER | PIERRE | FRANCOIS
SIEMERS | JOHANNA | LAUREN
SIMPSON | SARAH | JAMIESON
SITINAS | NICOLAOS | ZACHARIAS
SMEETH | KATHERINE | ADELINE
SMITH | ERIC | TYRONE
SMITH | ERIN | MICHELLE
SMITH | JENNIFER | ROBIN
SNG | LOUISA | MEI CHEAH
SO | ERIC | TAO
SOLLER-PFENNINGER | GABRIELA | RUTH
SONDEREGGER | LARS | BERNHARD
SPADOLA | DAVID | ERIK
SPEAR | JUDIDTH | K
SPIERER | LUCAS |
ST ONGE | MICHAEL | ROBERT
STAHELI | SUSIE | ANN
STAPLES | RICHARD | BRIAN
STERN | LESLIE | STRATTON
STORME | KAY | EUGENE
STORME | SHERRI | LYNN
STOUT | RICHARD | FARWELL
STRACHAN | JENNIFER | DECKER
STRAUSS | STEPHAN | LAURENCE
STREICH | RALPH | DOUGLAS
STRUBI | ALEXANDRE | ANTOINE
SULC | JONATHAN | ALLEN
SUTER | ELIZABETH | MARY
SWANSON | LAWRENCE | RAY
SWANSON | WENDY | JEAN
SWEE | JANICE | YU-CHEN
SWEE | JOLENE | MAY-CHEN
SY-TAN | MATTHEW | RANIER
TAKACS | PAUL |
TAKAGI | KANDAI | DANIEL
TAN | JEFFREY | PAK KERN
TAN | JING | YUAN
TAYLOR | MAUREEN | THERESE
TCHESNOKOVA | NELLIA |
TENENBAUM | ARI-LEV |
TENENBAUM | AVICHAI | C
TENENBAUM | ELIE | C
TENOT | MICHELE | MARIE
TEO | EILEEN | SIU LAN
THAELER | URS | PATRICK
THIBODEAU | LAUREN | ADELE
THOMAS | PETER | ALEXANDER
THOMPSON | HARVEY | HAROLD
TJAARDA | MICHAEL | PHILIPPE
TRAVIS | JEAN | ELIZABETH
TRAXLER | FRANZ | GUSTAV
TRIGGS | TELE | B
TRINGHAM | HELEN | CHARLOTTE
TSCHIRKY | ADRIAN |
TSOI | WAI | LING WINNIE
TURO | MARTIN | ROBERT EDWARD
TURRELL | THOMAS | GLADWIN
TYNES | DEBORAH | MARY
ULIAN | WAYNE | GILBERT
UNVER | CEVDET | Z
URSPRUNG | URSULA | VERONIKA
URWEIDER | INGRID | STERLING
VAN GORKOM | IRENE | L
VAN HASSELT | VIRGINIA | LYNN
VANDERLINDE | JULIANNA |
VATRE | NANCY | JANE AZALLION
VENIAMIS | IRENE | MARINA
VENTI | SAMUEL | PHILIP
VINCENT | MERVILLE | ARTHUR
VIT | OLIVER | DANIEL
VOGLER | DOLORES | MARIA
VOLKENSHTEYN | DANIEL |
VON RECHENBERG | CHRISTIAN | OLIVER
VON ROLL | ANDREAS | LOUIS
VON SCHONBORN-WIESENTHEID | ALEXANDRA |
VON WYSS | MARTIN | CHRISTOP
WALDVOGEL | LAURENCE | ANNE
WALKER | REBECCA | WHEATMAN
WALLACE | DIANNE | ELIZABETH
WALLACH | JEAN | PHILIPPE
WALSH | ALICIA | MARIE
WALTER | MORITZ | LEO
WAMPLER | ANDREW | EARL
WARING | ROBERT | WILSON
WARING | SARAH | ELIZABETH LONDAGIN
WATSON | MARION | STUART
WEIBEL | JESSICA | LAURIE
WEI-EN GOH | DANIEL | BENJAMIN
WEIR | HEATHER | ANN
WEISSMAN | JOHN | DAVID
WEISSMAN | STEVEN | LARRY
WELLS | LARRY | LYNN
WENG | ALEXANDER | I-CHI
WESTERMAN | ERIK | CARL
WHITEING | TANYA | MAREE
WHITFIELD | SHAINA | DANIELA
WICHMANN | MARYALICE | EDITH
WIDSTRAND | FLOREDETH |
WILHELM | ANDREA | DAWN
WILLIAMS | VIRGINIA | WYMAN
WILLIS | REBECCA | MARGARET
WILSON-CHAN | JOAN | SUSANN
WIRTH | THOMAS | MARCEL
WITTWER | SONDRA | CLAIRE
WONG | CHRISTOPHER |
WONG | CHUN | KI
WONG | CONSTANCE | C.
WONG | JUSTIN | SHU SHEUNG
WONG | KAYLA | CARISSA
WONG | RICKY |
WONG | YI-LIN |
WONG PEARCE | REGINA | ANN
WOODRUFF | JULIANNE |
WOODRUFF | RACHEL | MARIE
WOODRUFF-HUGHES | MARIA | NOELLE
WOOG | CARL | ANDRE
WU | PAO | HUI
WUEST | HEDWIG |
WUNDERLI | GERALDINE | MARY
WUNDERLI | MARK | BEAT
WYSS | KEITH | DURAN
YOUNG | CHELSEA |
YOUNG | GAIL | HELEN
YOUNG | VANESSA |
ZACHARIAS | KATIANA |
ZACHARIAS | MANDI | RAE
ZAPATA | JIMENA |
ZAPATA | LORENA |
ZAVALA | GUSTAVO |
ZINGG | ANDREW | JOHN

Dated: October 16, 2014.
Frances Fay,
Manager Team 103, Examinations Operations—Philadelphia Compliance Services.

[FR Doc. 2014-25412 Filed 10-24-14; 8:45 am]

BILLING CODE 4830-01-P